DEPARTMENT OF LABOR

Employment and Training Administration

TA-W-38,986, Gilda Activewear, Miami, Florida; Notice of Termination of Investigation

Pursuant to section 221 of the Trade Act of 1974, an investigation was initiated on April 9, 2001, in response to a worker petition which was filed on behalf of workers at Gilda Activewear, Miami, Florida.

The company official closed the facility and no one is available to provide information regarding the laid off workers. In a telephone conversation with a petitioner he stated that the company official moved to another State and closed the distribution facility also that the workers provided warehouse and distribution services and did not produce an article. Consequently, further investigation in this case would serve no purpose, and the investigation has been terminated.

Signed at Washington, DC this 23rd day of May 2001.
Edward A. Tomchick,
Certifying Officer, Division of Trade Adjustment Assistance.

[FR Doc. 01-14423 Filed 6-7-01; 8:45 am]

BILLING CODE 4510-30-M